DEPARTMENT OF COMMERCE

National Oceanic and Atmospheric Administration

15 CFR Part 902

50 CFR Parts 300 and 600

[Docket No. 020925223-2223-01; I.D. 091002I]

RIN 0648-AP89

Atlantic Highly Migratory Species (HMS); NOAA Information Collection Requirements; Technical Amendment

AGENCY: National Marine Fisheries Service (NMFS), National Oceanic and Atmospheric Administration (NOAA), Commerce.

ACTION: ACTION: Final rule; technical amendment.

SUMMARY: This final rule, technical amendment, corrects the cross-references in several parts to regulations that have since been removed, and it updates the Office of Management and Budget (OMB) table to add new OMB approvals and to correct control number references to the appropriate Code of Federal Regulations (CFR) part or section. The intent is to correct and clarify existing regulations and to comply with the requirement of the Paperwork Reduction Act (PRA) that agencies display current OMB control numbers for each agency information collection requirement and to make this information available to the public.

DATES: Effective October 18, 2002.

ADDRESSES: Any comments regarding burden-hour estimates for collection-of-information requirements contained in this final rule should be sent to Christopher Rogers, Chief, Highly Migratory Species Management Division, Office of Sustainable Fisheries (F/SF1), NMFS, 1315 East-West Highway, Silver Spring, MD 20910-3282, and to the Office of Information and Regulatory Affairs, Office of Management and Budget, Washington, DC 20503 (ATTN: NOAA Desk Officer).

FOR FURTHER INFORMATION CONTACT: Christopher Rogers, 301-713-2347.

SUPPLEMENTARY INFORMATION:

Cross References

On May 28, 1999, NMFS published a final rule (64 FR 29090) that implemented the Fishery Management Plan for Atlantic Tunas, Swordfish, and Sharks (HMS FMP) and an Amendment to the Atlantic Billfish FMP, which consolidated regulations for Atlantic HMS into one part of the Code of Federal Regulations (CFR). The final consolidated rule inadvertently left in some cross-references to parts that were removed as part of the consolidation. This final rule, technical amendment, corrects references to removed regulations at 50 CFR part 285 and now references the consolidated regulations at 50 CFR part 635 for the sections on reporting requirements at 50 CFR 300.17, definitions at 50 CFR 600.10, and observer requirements at 50 CFR 600.746.

OMB Control Numbers

NOAA codifies its OMB control numbers for information collection at 15 CFR part 902. Part 902 of title 15 CFR displays control numbers that OMB assigned to NMFS information pursuant to the PRA, for the public's information.

This final rule, technical amendment, brings part 902 up to date and corrects omissions and errors by revising the table in section 1, paragraph (b) under 50 CFR to reflect the most current OMB control numbers associated with NMFS information collections contained in regulations appearing in title 50. All of the information collections displayed in section 1(b) have previously been submitted to OMB for approval during implementation of regulations appearing in the individual parts of title 50; this final rule, technical amendment, does not involve any new reporting or recordkeeping requirements.

Classification

Notwithstanding any other provision of the law, no person is required to respond to, nor shall any person be subject to a penalty for failure to comply with, a collection of information subject to the requirements of the PRA, unless that collection of information displays a currently valid OMB control number.

The Assistant Administrator for Fisheries finds, pursuant to 5 U.S.C. 553 (b)(B), that, because this final rule makes only minor, non-substantive changes and does not change operating practices in the fishery, it is unnecessary under 5 U.S.C. 553(b)(B) to provide for prior public comment. Because this final rule, technical amendment, does not constitute a substantive rule, good cause exists to waive the 30-day delay in effective date under 5 U.S.C. 553(d). Under this final rule, the HMS fisheries would continue to operate as they have under existing regulations with no changes or disruptions to fishing practices. This final rule makes no substantive changes to existing regulations, but rather removes potential confusion by eliminating outdated cross-references to regulations that NMFS previously removed. In addition, this final rule updates OMB control numbers associated with NMFS information collections, all of which OMB has previously approved.

This final rule has been determined to be not significant for the purposes of Executive Order 12866.

List of Subjects

15 CFR Part 902

Reporting and recordkeeping requirements.

50 CFR Part 300

Exports, Fish, Fisheries, Fishing, Imports, Labeling, Marine resources, Penalties, Reporting and recordkeeping requirements, Transportation, Treaties, and Wildlife.

50 CFR Part 600

Fisheries, Fishing.

Dated: October 10, 2002.
William T. Hogarth,
Assistant Administrator for Fisheries, National Marine Fisheries Service.

For the reasons set out in the preamble, 15 CFR chapter IX and 50 CFR chapters III and VI are amended as follows:

15 CFR Chapter IX

PART 902—NOAA INFORMATION COLLECTION REQUIREMENTS UNDER THE PAPERWORK REDUCTION ACT; OMB CONTROL NUMBERS

1. The authority citation for part 902 continues to read as follows:

Authority: 44 U.S.C. 3501 et seq.

2. In § 902.1, the table in paragraph (b) under 50 CFR is amended by removing the entries for part 635 from § 635.4(d) through § 635.69(a), and, in the right hand column in corresponding positions, the control numbers, and by adding in their place the following entries to read as follows:

§ 902.1 OMB control numbers assigned pursuant to the Paperwork Reduction Act.

* * * * *

(b) Display.

CFR part or section where the information collection requirement is located | Current OMB control number (all numbers begin with 0648-)
* * * * * |
50 CFR |
* * * * *
635.4(b) | -0327
635.4(d) | -0327
635.4(g) | -0202 and -0205
635.5(a) | -0371, -0328, and -0452
635.5(b) | -0013 and -0239
635.5(c) | -0328 and -0446
635.5(d) | -0323
635.5(f) | -0380
635.6(c) | -0373
635.7(c) | -0374
635.21(d) | -0202
635.26 | -0247
635.31(b) | -0216
635.32 | -0309
635.33 | -0338
635.42 | -0040
635.43 | -0040
635.44 | -0040
635.46 | -0363
* * * * * |

50 CFR Chapter III

PART 300—INTERNATIONAL FISHERIES REGULATIONS

3. The authority citation for part 300 continues to read as follows:

Authority: 16 U.S.C. 773 et seq.; 16 U.S.C. 951-961 and 971 et seq.; 16 U.S.C. 973-973r; 16 U.S.C. 2431 et seq.; 16 U.S.C. 3371-3378; 16 U.S.C. 3636(b); 16 U.S.C. 5501 et seq.; and 16 U.S.C. 1801 et seq.

4. In § 300.17, paragraph (b)(1)(iv) is revised to read as follows:

§ 300.17 Reporting.

* * * * *

(b) * * *

(1) * * *

(iv) Atlantic Purse Seine—Vessel Logbook (50 CFR 635.5);

* * * * *

50 CFR Chapter VI

PART 600—MAGNUSON-STEVENS ACT PROVISIONS

5. The authority citation for part 600 continues to read as follows:

Authority: 5 U.S.C. 561 and 16 U.S.C. 1801 et seq.

6. In § 600.10, the definitions for “Exempted educational activity” and “Exempted or experimental fishing” are revised to read as follows:

§ 600.10 Definitions.

* * * * *

Exempted educational activity means an activity, conducted by an educational institution accredited by a recognized national or international accreditation body, of limited scope and duration, that is otherwise prohibited by part 635 or chapter VI of this title, but that is authorized by the appropriate Director or Regional Administrator for educational purposes.

Exempted or experimental fishing means fishing from a vessel of the United States that involves activities otherwise prohibited by part 635 or chapter VI of this title, but that are authorized under an exempted fishing permit (EFP). These regulations refer exclusively to exempted fishing. References in part 635 of this title and elsewhere in this chapter to experimental fishing mean exempted fishing under this part.

* * * * *

7. In § 600.746, paragraph (c)(1) introductory text is revised to read as follows:

§ 600.746 Observers.

* * * * *

(c) Inadequate or unsafe vessels. (1) A vessel is inadequate or unsafe for purposes of carrying an observer and allowing operation of normal observer functions if it does not comply with the applicable regulations regarding observer accommodations (see 50 CFR parts 229, 300, 600, 622, 635, 648, 660, and 679) or if it has not passed a USCG safety examination or inspection. A vessel that has passed a USCG safety examination or inspection must display one of the following:

* * * * *

[FR Doc. 02-26599 Filed 10-17-02; 8:45 am]

BILLING CODE 3510-22-S